DEPARTMENT OF JUSTICE

Antitrust Division

Notice Pursuant to the National Cooperative Research and Production Act of 1993—Long Term Implantable Glucose Monitor

Notice is hereby given that, on June 3, 2003, pursuant to section 6(a) of the National Cooperative Research and Production Act of 1993, 15 U.S.C. 4301 et seq. (“the Act”), Animas Corporation and PD-LD, Inc., as a joint research venture, have filed written notifications simultaneously with the Attorney General and the Federal Trade Commission disclosing changes in its membership status. The notifications were filed for the purpose of extending the Act's provisions limiting the recovery of antitrust plaintiffs to actual damages under specified circumstances. Specifically, PD-LD, Inc., Pennington, NJ has been added as a party to this venture. Also, Sarnoff Corporation, Princeton, NJ has been dropped as a party to this venture.

No other changes have been made in either the membership or planned activity of the group research project. Membership in this group research project remains open, and Animas Corporation intends to file additional written notification disclosing all changes in membership.

On September 27, 2001, Animas Corporation and Sarnoff Corporation filed its original notification pursuant to section 6(a) of the Act. The Department of Justice published a notice in the Federal Register pursuant to section 6(b) of the Act on January 22, 2002. (67 FR 2909).

Constance K. Robinson,
Director of Operations, Antitrust Division.

[FR Doc. 03-15801 Filed 6-20-03; 8:45 am]

BILLING CODE 4410-11-M